DEPARTMENT OF ENERGY

Federal Energy Regulatory Commission

[Project No. 14803-001; Project No. 2082-063]

PacifiCorp; Klamath River Renewal Corporation; Notice of Teleconference for Tribal Consultation Meeting

a. Project Name and Numbers: Lower Klamath and Klamath Hydroelectric Project Nos. 14803 and 2082.

b. Project Licensee: PacifiCorp.

c. Date and Time of Teleconference: Tuesday, March 1, 2022, from 12:00 p.m. to 1:00 p.m. Eastern Standard Time.

d. FERC Contact: Jennifer Polardino, (202) 502-6437 or jennifer.polardino@ferc.gov.

e. Purpose of Meeting: Commission staff will participate in a teleconference with the Shasta Indian Nation and the California State Historic Preservation Office (California SHPO) to discuss the application for the surrender of license and removal of project works for the Lower Klamath Project No. 14803. The project is located on the Klamath River in Klamath County, Oregon, and Siskiyou County, California. The project occupies federal lands managed by the U.S. Bureau of Land Management.

f. Members of the public and intervenors in the referenced proceedings may attend the teleconference; however, participation will be limited to Tribal representatives of the Shasta Indian Nation, representatives from the California SHPO, and the Commission's representatives. If during the call the Shasta Indian Nation decides to disclose information about a specific location which could create a risk or harm to an archaeological site or Native American cultural resource, the public will be excused for that portion of the meeting and can return to the call after such information is disclosed. The teleconference meeting will be transcribed by a court reporter and the transcript will be placed in the public record.

g. Please call or email Jennifer Polardino at (202) 502-6437 or jennifer.polardino@ferc.gov by Monday, February 28, 2022, to RSVP and to receive the teleconference call-in information.

Dated: February 11, 2022.
Kimberly D. Bose,
Secretary.

[FR Doc. 2022-03421 Filed 2-16-22; 8:45 am]

BILLING CODE 6717-01-P